DEPARTMENT OF COMMERCE

National Oceanic and Atmospheric Administration

[RTID 0648-XA606]

Marine Mammals; File No. 23554

AGENCY: National Marine Fisheries Service (NMFS), National Oceanic and Atmospheric Administration (NOAA), Commerce.

ACTION: Notice; receipt of application.

SUMMARY: Notice is hereby given that Colleen Reichmuth, Ph.D., Long Marine Laboratory, Institute of Marine Sciences Address at the University of California at Santa Cruz, 115 McAllister Way, Santa Cruz, CA 95060, has applied in due form for a permit to conduct research on pinnipeds in captivity.

DATES: Written, telefaxed, or email comments must be received on or before December 10, 2020.

ADDRESSES: The application and related documents are available for review by selecting “Records Open for Public Comment” from the “Features” box on the Applications and Permits for Protected Species (APPS) home page, https://apps.nmfs.noaa.gov, and then selecting File No. 23554 from the list of available applications. These documents are also available upon written request via email to NMFS.Pr1Comments@noaa.gov.

Written comments on this application should be submitted via email to NMFS.Pr1Comments@noaa.gov. Please include File No. 23554 in the subject line of the email comment.

Those individuals requesting a public hearing should submit a written request via email to NMFS.Pr1Comments@noaa.gov. The request should set forth the specific reasons why a hearing on this application would be appropriate.

FOR FURTHER INFORMATION CONTACT: Sara Young or Jennifer Skidmore, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The applicant proposes to conduct comparative psychological and physiological studies with captive California sea lions (Zalophus californianus), harbor seals (Phoca vitulina), spotted seals (Phoca largha), ringed seals (Pusa hispida), bearded seals (Erignathus barbatus), and Hawaiian monk seals (Neomonachus schauinslandi) at Long Marine Laboratory (Santa Cruz, CA) and the Alaska SeaLife Center (Seward, AK). Up to four individuals per species may be studied at both facilities at any given time over the duration of the permit, with the exception of the Hawaiian monk seal, for which a max of one seal will be studied at a time.

During psychological assessments, trained pinnipeds cooperate in behavioral stimulus detection and discrimination tasks conducted on land or in water. Stimuli are controlled sensory cues used to evaluate species-typical sensory and cognitive performance. Stimuli may be from any sensory modality, though there is an emphasis on hearing so that conservation issues related to ocean noise can be addressed. Up to three times per day, depending on the procedure, animals may participate in voluntary psychological assessment procedures such as: active acoustic playbacks, passive acoustic recording, behavioral observations, cognitive studies, incidental harassment, signal detection and discrimination, associative learning, photography and videography on land and underwater.

For physiological assessments, the same individuals, except the Hawaiian monk seal, participate in routine physical evaluations to improve understanding of their general biology, including growth and development, nutritional requirements, health status, and environmental tolerance. This research includes longitudinal measurements of growth, nutrition, health, metabolism, physiological capacities, and environmental tolerance. Data are collected from husbandry records, individuals trained to cooperate in physiological measurements, and sedated animals during routine veterinary examinations. Open-flow respirometry methods will be used to gather metabolic data from animals trained to rest and breathe under a plastic dome. Up to three times per day, depending on the procedure, animals may participate in voluntary physiological procedures such as: Passive acoustic recording, drug and sedative administration, collection of molt, scat, and urine, Evan's blue dye and serial blood samples, external and internal instrumentation, flipper tagging, measuring, metabolic chamber or hood studies, behavioral observations, oral fecal markers, collecting of shed whiskers, photogrammetry, photography and videography, flyovers from unmanned aircraft systems, restraint, blood sampling, hair clipping, transport, ultrasound, underwater photography and videography, and weighing.

The application also includes a request for the unintentional mortality of up to two pinnipeds total of any species over the duration of the permit associated with research or transport including humane euthanasia at discretion of attending vet for medical purposes due to research, as well as necropsy and export of parts from the animals. The applicant requests a 5-year permit.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: November 5, 2020.
Amy Sloan,
Acting Chief, Permits and Conservation Division, Office of Protected Resources, National Marine Fisheries Service.

[FR Doc. 2020-24917 Filed 11-9-20; 8:45 am]

BILLING CODE 3510-22-P